SMALL BUSINESS ADMINISTRATION

[Declaration of Disaster #3413]

State of Missouri, (Amendment #3); Disaster Loan Areas

In accordance with a notice received from the Federal Emergency Management Agency, dated June 10, 2002, the above-numbered Declaration is hereby amended to establish the incident period for this disaster as beginning April 24, 2002 and continuing through June 10, 2002.

All other information remains the same, i.e., the deadline for filing applications for physical damage is July 7, 2002, and for loans for economic injury the deadline is February 10, 2003.

(Catalog of Federal Domestic Assistance Program Nos. 59002 and 59008)
Dated: June 13, 2002.
Herbert L. Mitchell,
Associate Administrator for Disaster Assistance.

[FR Doc. 02-15817 Filed 6-21-02; 8:45 am]

BILLING CODE 8025-01-P